DEPARTMENT OF TRANSPORTATION

Federal Aviation Administration

14 CFR Part 71

[Docket No. FAA-2024-2440; Airspace Docket No. 24-ANM-86]

RIN 2120-AA66

Modification of Class D and Class E airspace; Abbotsford Airport, Abbotsford, BC

AGENCY: Federal Aviation Administration (FAA), DOT.

ACTION: Final rule.

SUMMARY: This action modifies the administrative portions of the Class D and Class E airspace legal descriptions for Abbotsford Airport, Abbotsford, BC. This action does not change the airspace boundaries or operating requirements.

DATES: Effective date 0901 UTC, February 20, 2025. The Director of the Federal Register approves this incorporation by reference action under 1 CFR part 51, subject to the annual revision of FAA Order JO 7400.11 and publication of conforming amendments.

ADDRESSES: A copy of this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the administrative portion of the Class D and Class E airspace legal descriptions to support visual flight rules (VFR) and instrument flight rules (IFR) operations at Abbotsford Airport, Abbotsford, BC.

Incorporation by Reference

Class D and E5 airspace areas are published in paragraphs 5000 and 6005, respectively, of FAA Order JO 7400.11, Airspace Designations and Reporting Points, which is incorporated by reference in 14 CFR 71.1 on an annual basis. This document amends the current version of that order, FAA Order JO 7400.11J, dated July 31, 2024, and effective September 15, 2024. FAA Order JO 7400.11J is publicly available as listed in the ADDRESSES section of this document. These amendments will be published in the next update to FAA Order JO 7400.11.

FAA Order JO 7400.11J lists Class A, B, C, D, and E airspace areas, air traffic service routes, and reporting points.

The Rule

This action amends 14 CFR part 71 by modifying the administrative portions of the Class D and Class E airspace legal descriptions for Abbotsford Airport, Abbotsford, BC.

The airspace locations within line one of both the Class D and Class E legal descriptions are incorrect, as Abbotsford, BC does not reside within a United States region or territory and Point Roberts, WA is not geographically associated with airspace designated to Abbotsford Airport. An appropriate city within the lateral boundaries of the Class D airspace designated for Abbotsford Airport is not available. As such, the location of the Class D airspace designated to Abbotsford Airport is updated to Lynden, WA, which is the most appropriate, geographically adjacent city that also resides within the Northwest Mountain Region and the state of Washington. The location of the Class E airspace designated to Abbotsford Airport is updated to Kendall, WA, which is the most appropriately located city within the airspace that also resides within the Northwest Mountain Region and the state of Washington.

The locations for which airspace is designated within line two of both the Class D and Class E legal descriptions are updated to remove mention of the country name “Canada,” as the locations should only include a city and state.

Abbotsford Airport's geographic location within line three of both the Class D and Class E legal descriptions is updated to match the FAA database. As such, the reference to Abbotsford airport's location within their Class D airspace legal description is updated to instead reference a “Point in Space.” The airport's previous, outdated geographic location was used as the location of the newly established “Point in Space” to preserve the airspace boundaries as they were prior to this airspace action.

The geographic coordinates for Vancouver International Airport, BC, are added to the Abbotsford Class D airspace legal description, as the airport is referenced within the description.

This action is an administrative change and does not affect the airspace boundaries or operating requirements; therefore, notice and public procedure under 5 U.S.C. 553(b) is unnecessary.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f); 40103, 40113, 40120; E.O. 10854, 24 FR 9565, 3 CFR, 1959-1963 Comp., p. 389.

§ 71.1 [Amended]

2. The incorporation by reference in 14 CFR part 71.1 of FAA Order JO 7400.11J, Airspace Designations and Reporting Points, dated July 31, 2024, and effective September 15, 2024, is amended as follows:

Paragraph 5000 Class D Airspace.

* * * * *

ANM WA D Lynden, WA [Amended]

Abbotsford Airport, BC

(Lat. 49°01′31″ N, long. 122°21′36″ W)

Point in Space

(Lat. 49°01′31″ N, long. 122°21′48″ W)

Vancouver VORTAC

(Lat. 49°04′38″ N, long. 123°08′57″ W)

Vancouver International Airport, BC

(Lat. 49°11′41″ N, long. 123°11′02″ W)

That airspace extending upward from the surface to 2,500 feet MSL beginning at lat. 48°57′59″ N, long. 122°18′57″ W, thence counterclockwise along the 4-mile radius of the Point in Space to lat. 49°00′05″ N, long. 122°16′08″ W, thence west along the U.S./Canadian border to lat. 49°00′05″ N, long. 122°45′58″ W, thence clockwise along the 16-mile arc of the Vancouver VORTAC to lat. 48°57′59″ N, long. 122°47′12″ W, thence east along lat. 48°57′59″ N to the point of beginning, excluding the airspace below 1,500 feet MSL and west of long. 122°33′50″ W, the airspace within the Vancouver International Airport Class C airspace area, and the airspace overlying the territory of Canada.

* * * * *

Paragraph 6005 Class E Airspace Areas Extending Upward From 700 Feet or More Above the Surface of the Earth.

* * * * *

ANM WA E5 Kendall, WA [Amended]

Abbotsford Airport, BC

(Lat. 49°01′31″ N, long. 122°21′36″ W)

That airspace extending upward from 1,200 feet above the surface bounded by a line beginning at lat. 49°00′00″ N, long. 122°15′00″ W; thence east along the U.S./Canadian border to lat. 49°00′00″ N, long. 121°20′15″ W; thence south to lat. 48°51′40″ N, long. 121°20′15″ W; thence west to lat. 48°51′40″ N, long. 122°15′00″ W; thence back to the point of origination.

* * * * *

Issued in Des Moines, Washington, on December 5, 2024.
B.G. Chew,
Group Manager, Operations Support Group, Western Service Center.

[FR Doc. 2024-29085 Filed 12-10-24; 8:45 am]

BILLING CODE 4910-13-P